DEPARTMENT OF COMMERCE

Bureau of Industry and Security

15 CFR Parts 740, 748 and 774

[Docket No. 070308049-7056-01]

RIN 0694-AD98

Corrections to Rule that Implemented the New Formula for Calculating Computer Performance: Adjusted Peak Performance (APP) in Weighted TeraFLOPS

AGENCY: Bureau of Industry and Security, Commerce.

ACTION: Final rule; correction.

SUMMARY: This rule corrects errors that were published on April 24, 2006, in the rule that implemented the new formula for calculating computer performance in Weighted TeraFLOPS (71 FR 20876). These errors include references to Missile Technology controls that were removed by the April 24, 2006 rule, as well as errors related to scope of controls and license exceptions described in certain Export Control Classification Numbers.

DATES: Effective Dates: This rule is effective: March 22, 2007.

FOR FURTHER INFORMATION CONTACT: For questions of a technical nature contact: Joseph Young, Office of National Security and Technology Transfer Controls at 202-482-4197 or e-mail: jyoung@bis.doc.gov. For questions of a non-technical nature contact: Sharron Cook, Office of Exporter Services at 202-482-2440 or e-mail: scook@bis.doc.gov.

SUPPLEMENTARY INFORMATION

Background

A rule published on April 24, 2006, added to the Export Administration Regulations (EAR) provisions that implemented the new formula for calculating computer performance in Weighted TeraFLOPS (WT). That rule included the removal of missile technology (MT) controls on certain commodities in Export Control Classification Number (ECCN) 4A003. Since publication, however, it was observed that some references to MT controls were inadvertently left in Note 1 of the License Requirement section and in the License Exception LVS eligibility section. This rule removes references to MT controls from 4A003.

In addition, because of the removal of MT controls from ECCNs 4A003 and 4D001 in the April 24, 2006 rule, the sentence in section 740.7 of the EAR (License Exception APP) that states “Technology for computers controlled for missile technology (MT) reasons are not eligible for License Exception APP” is no longer necessary and is therefore removed by this rule.

This rule corrects and simplifies the headings of ECCNs 4E001 and 4D001 by removing specific ECCN references and pointing to the List of Items Controlled section to determine the technology and software controls for these ECCNs. In addition, this rule revises the National Security control text by removing specific references to ECCNs and simplifying it to read “NS applies to entire entry.” This rule also corrects and simplifies the License Exception TSR eligibility text in the License Exception section of ECCN 4D001 to read “Yes, for `software' described in 4D001.b with an `Adjusted Peak Performance' (`APP') equal to or less than 0.1 WT.” A similar revision is made to correct and simplify the License Exception TSR eligibility text in ECCN 4E001.

This rule also removes a duplicate paragraph in paragraph (c) of Supplement No. 2 to part 748, which was unintentionally left in this paragraph.

Although the Export Administration Act expired on August 20, 2001, the President, through Executive Order 13222 of August 17, 2001, 3 CFR, 2001 Comp., p. 783 (2002), as extended by the Notice of August 3, 2006, 71 FR 44551 (August 7, 2006), has continued the Export Administration Regulations in effect under the International Emergency Economic Powers Act.

Rulemaking Requirements

1. This final rule has been determined to be not significant for purposes of E.O. 12866.

2. Notwithstanding any other provision of law, no person is required to respond to, nor shall any person be subject to a penalty for failure to comply with a collection of information, subject to the requirements of the Paperwork Reduction Act of 1995 (44 U.S.C. 3501 et seq.) (PRA), unless that collection of information displays a currently valid Office of Management and Budget (OMB) Control Number. This rule involves two collections of information subject to the PRA. One of the collections has been approved by OMB under control number 0694-0088, “Multi-Purpose Application,” and carries a burden hour estimate of 58 minutes for a manual or electronic submission. The other of the collections has been approved by OMB under control number 0694-0106, “ Reporting and Recordkeeping Requirements under the Wassenaar Arrangement,” and carries a burden hour estimate of 21 minutes for a manual or electronic submission. Send comments regarding these burden estimates or any other aspect of these collections of information, including suggestions for reducing the burden, to OMB Desk Officer, New Executive Office Building, Washington, DC 20503; and to the Office of Administration, Bureau of Industry and Security, Department of Commerce, 14th and Pennsylvania Avenue, NW., Room 6883, Washington, DC 20230.

3. This rule does not contain policies with Federalism implications as that term is defined under E.O. 13132.

4. The provisions of the Administrative Procedure Act (5 U.S.C. 553) requiring notice of proposed rulemaking, the opportunity for public participation, and a delay in effective date, are inapplicable because this regulation involves a military and foreign affairs function of the United States (5 U.S.C. 553(a)(1)). Further, no other law requires that a notice of proposed rulemaking and an opportunity for public comment be given for this final rule. Because a notice of proposed rulemaking and an opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Sharron Cook, Office of Exporter Services, Bureau of Industry and Security, Department of Commerce, P.O. Box 273, Washington, DC 20044, or to scook@bis.doc.gov.

List of Subjects

15 CFR Parts 740 and 748

Administrative practice and procedure, Exports, Reporting and recordkeeping requirements.

15 CFR Part 774

Exports, Reporting and recordkeeping requirements.

Accordingly, parts 740, 748 and 774 of the Export Administration Regulations (15 CFR parts 730-799) are amended as follows:

PART 740—[AMENDED]

1. The authority citation for 15 CFR part 740 continues to read as follows:

Authority: 50 U.S.C. app. 2401 et seq.; 50 U.S.C. 1701 et seq.; Sec. 901-911, Pub. L. 106-387; E.O. 13026, 61 FR 58767, 3 CFR, 1996 Comp., p. 228; E.O. 13222, 66 FR 44025, 3 CFR, 2001 Comp., p. 783; Notice of August 3, 2006, 71 FR 44551 (August 7, 2006).

§ 740.7 [Amended]

2. Section 740.7 is amended by removing the last sentence in paragraph (a)(2).

PART 748—[AMENDED]

3. The authority citation for 15 CFR part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 3, 2006, 71 FR 44551 (August 7, 2006).

Supplement No. 2 to Part 748 [Amended]

4. Supplement No. 2 to part 748 is amended by removing the undesignated paragraph following the introductory text of paragraph (c).

PART 774—[AMENDED]

5. The authority citation for 15 CFR part 774 continues to read as follows:

Authority: 50 U.S.C. app. 2401 et seq.; 50 U.S.C. 1701 et seq.; 10 U.S.C. 7420; 10 U.S.C. 7430(e); 18 U.S.C. 2510 et seq.; 22 U.S.C. 287c, 22 U.S.C. 3201 et seq., 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 13026, 61 FR 58767, 3 CFR, 1996 Comp., p. 228; E.O. 13222, 66 FR 44025, 3 CFR, 2001 Comp., p. 783; Notice of August 3, 2006, 71 FR 44551 (August 7, 2006).

Supplement No. 1 to Part 774 [Amended]

6. In Supplement No. 1 to part 774 (the Commerce Control List), Category 4—Computers, Export Control Classification Number (ECCN) 4A003 is amended by revising the License Requirements section and the License Exceptions section, to read as follows:

4A003 “Digital computers”, “electronic assemblies”, and related equipment therefor, as follows, and specially designed components therefor.

License Requirements

Reason for Control: NS, CC, AT, NP.

Control(s) | Country chart
NS applies to 4A003.b and .c | NS Column 1.
NS applies to 4A003.a, .e, and .g | NS Column 2.
CC applies to “digital computers” for computerized finger-print equipment | CC Column 1.
AT applies to entire entry (refer to 4A994 for controls on “digital computers” with a APP $ 0.00001 but # to 0.75 WT) | AT Column 1.

NP applies, unless a License Exception is available. See § 742.3(b) of the EAR for information on applicable licensing review policies.

Note 1: For all destinations, except those countries in Country Group E:1 of Supplement No. 1 to part 740 of the EAR, no license is required (NLR) for computers with an “Adjusted Peak Performance” (“APP”) not exceeding 0.75 Weighted TeraFLOPS (WT) and for “electronic assemblies” described in 4A003.c that are not capable of exceeding an “Adjusted Peak Performance” (“APP”) exceeding 0.75 Weighted TeraFLOPS (WT) in aggregation, except certain transfers as set forth in § 746.3 (Iraq).

Note 2: Special Post Shipment Verification reporting and recordkeeping requirements for exports of computers to destinations in Computer Tier 3 may be found in § 743.2 of the EAR.

License Exceptions

LVS: $5000; N/A for 4A003.b and .c.

GBS: Yes, for 4A003.e, and .g and specially designed components therefor, exported separately or as part of a system.

APP: Yes, for computers controlled by 4A003.a or .b, and “electronic assemblies” controlled by 4A003.c, to the exclusion of other technical parameters, with the exception of 4A003.e (equipment performing analog-to-digital conversions exceeding the limits of 3A001.a.5.a). See § 740.7 of the EAR.

CIV: Yes, for 4A003.e, and .g.

* * * * *

7. In Supplement No. 1 to part 774 (the Commerce Control List), Category 4—Computers, Export Control Classification Number (ECCN) 4D001 is amended by revising the Heading, the License Requirements section, and the License Exceptions section, to read as follows:

4D001 Specified “software”, see List of Items Controlled.

License Requirements

Reason for Control: NS, CC, AT, NP.

Control(s) | Country chart
NS applies to entire entry | NS Column 1.
CC applies to “software” for computerized finger-print equipment controlled by 4A003 for CC reasons | CC Column 1.
AT applies to entire entry | AT Column 1.

NP applies, unless a License Exception is available. See § 742.3(b) of the EAR for information on applicable licensing review policies.

License Exceptions

CIV: N/A

TSR: Yes, for “software” described in 4D001.b with an “Adjusted Peak Performance” (“APP”) equal to or less than 0.1 WT.

APP: Yes to specific countries (see § 740.7 of the EAR for eligibility criteria)

* * * * *

8. In Supplement No. 1 to part 774 (the Commerce Control List), Category 4—Computers, Export Control Classification Number (ECCN) 4E001 is amended by revising the Heading, the License Requirements section, and the License Exceptions section, to read as follows:

4E001 Specified “technology”, see List of Items Controlled.

License Requirements

Reason for Control: NS, MT, CC, AT, NP.

Control(s) | Country chart
NS applies to entire entry | NS Column 1.
MT applies to “technology” for items controlled by 4A001.a and 4A101 for MT reasons | MT Column 1.
CC applies to “technology” for computerized fingerprint equipment controlled by 4A003 for CC reasons | CC Column 1.
AT applies to entire entry | AT Column 1.

NP applies, unless a License Exception is available. See § 742.3(b) of the EAR for information on applicable licensing review policies.

License Requirement Notes: See § 743.1 of the EAR for reporting requirements for exports under License Exceptions.

License Exceptions

CIV: N/A

TSR: Yes, for “technology” described in 4E001.b with an “Adjusted Peak Performance” (“APP”) equal to or less than 0.1 WT.

APP: Yes to specific countries (see § 740.7 of the EAR for eligibility criteria).

* * * * *

Eileen M. Albanese,
Director, Office of Exporter Services.

[FR Doc. E7-5271 Filed 3-21-07; 8:45 am]

BILLING CODE 3510-33-P